DEPARTMENT OF COMMERCE

International Trade Administration

[A-122-506]

Oil Country Tubular Goods From Canada: Extension of Preliminary Results of Antidumping Duty Administrative Review

AGENCY: Import Administration, International Trade Administration, Department of Commerce.

ACTION: Notice of extension of time limit for preliminary results of antidumping duty administrative review.

EFFECTIVE DATE: February 1, 2000.

FOR FURTHER INFORMATION CONTACT: Mark Manning, at (202) 482-3936, or Nithya Nagarajan, at (202) 482-5253, Office of AD/CVD Enforcement IV, Group II, Import Administration, International Trade Administration, U.S. Department of Commerce, 14th Street and Constitution Ave, NW, Washington, DC 20230.

Statutory Time Limits

Section 751(a)(3)(A) of the Tariff Act of 1930, as amended (“the Act”), requires the Department of Commerce (“the Department”) to make a preliminary determination within 245 days after the last day of the anniversary month of an order/finding for which a review is requested and a final determination within 120 days after the date on which the preliminary determination is published. However, if it is not practicable to complete the review within the time period, section 751(a)(3)(A) of the Act allows the Department to extend the time limit for the preliminary results to a maximum of 365 days and for the final results to 180 days (or 300 days if the Department does not extend the time limit for the preliminary results) from the date of publication of the preliminary results.

Background

On August 24, 1999, the Department published a notice of initiation of administrative review of the antidumping duty order on oil country tubular goods from Canada, covering the period December 1, 1998 through May 30, 1999 (64 FR 47167). The preliminary results are currently due no later than February 29, 2000.

Extension of Preliminary Results of Review

We determine that it is not practicable to complete the preliminary results of this review within the original time limit. Therefore, the Department is extending the time limit for completion of the preliminary results until no later than June 30, 2000. See Decision Memorandum from Tom Futtner to Holly A. Kuga, dated January 21, 2000, which is on file in the Central Records Unit. We intend to issue the final results no later than 120 days after the publication of the preliminary results notice.

This extension is in accordance with section 751(a)(3)(A) of the Act.

Dated: January 21, 2000.
Holly A. Kuga,
Acting Deputy Assistant Secretary, Import Administration, Group II.

[FR Doc. 00-2126 Filed 1-31-00; 8:45 am]

BILLING CODE 3510-DS-P